DEPARTMENT OF TRANSPORTATION

Federal Aviation Administration

14 CFR Part 39

[Docket No. 2003-NM-50-AD; Amendment 39-13675; AD 2004-12-15]

RIN 2120-AA64

Airworthiness Directives; Boeing Model 777-200 Series Airplanes

AGENCY: Federal Aviation Administration, DOT.

ACTION: Final rule.

SUMMARY: This amendment adopts a new airworthiness directive (AD), applicable to certain Boeing Model 777-200 series airplanes, that requires a one-time general visual inspection of wire bundles routed aft of electrical disconnect panel AC2162 to determine their installation and separation, and corrective actions, if necessary. This action is necessary to prevent damage to the stabilizer cutout circuit wires in the bundles due to contact between the bundles and the adjacent galley water drain tube and hydraulic tubes, which, if followed by an active fault in the stabilizer command circuit, could result in undesired stabilizer motion that cannot be stopped, and could lead to loss of pitch control and loss of control of the airplane. This action is intended to address the identified unsafe condition.

DATES: Effective July 22, 2004.

The incorporation by reference of a certain publication listed in the regulations is approved by the Director of the Federal Register as of July 22, 2004.

ADDRESSES: The service information referenced in this AD may be obtained from Boeing Commercial Airplanes, P.O. Box 3707, Seattle, Washington 98124-2207. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Binh Tran, Aerospace Engineer, Systems and Equipment Branch, ANM-130S, FAA, Seattle Aircraft Certification Office, 1601 Lind Avenue, SW., Renton, Washington 98055-4056; telephone (425) 917-6485; fax (425) 917-6590.

SUPPLEMENTARY INFORMATION: A proposal to amend part 39 of the Federal Aviation Regulations (14 CFR part 39) to include an airworthiness directive (AD) that is applicable to certain Boeing Model 777-200 series airplanes was published in the Federal Register on November 25, 2003 (68 FR 66030). That action proposed to require a one-time general visual inspection of wire bundles routed aft of electrical disconnect panel AC2162 to determine their installation and separation, and corrective actions, if necessary.

Comments

Interested persons have been afforded an opportunity to participate in the making of this amendment. Due consideration has been given to the one comment received.

Request To Reduce Compliance Time

One commenter requests that the compliance time of 18 months for accomplishing the proposed AD be reduced because of the severity of undesired stabilizer motion and the loss of pitch control of the airplane. The commenter does not suggest a new compliance time.

The FAA does not agree. In developing an appropriate compliance time, we considered the safety implications and normal maintenance schedules for timely accomplishment of the actions. In consideration of these factors, we determined that the compliance time, as proposed, represents an appropriate interval in which the actions can be accomplished, while still maintaining an adequate level of safety. However, if additional data are presented that would justify a shorter compliance time, we may consider further rulemaking on this issue. No change is made to the final rule in this regard.

Conclusion

After careful review of the available data, including the comment noted above, the FAA has determined that air safety and the public interest require the adoption of the rule as proposed.

Cost Impact

There are approximately 64 airplanes of the affected design in the worldwide fleet. The FAA estimates that 17 airplanes of U.S. registry will be affected by this AD, that it will take approximately 1 work hour per airplane to accomplish the required general visual inspection, and that the average labor rate is $65 per work hour. Based on these figures, the cost impact of the AD on U.S. operators is estimated to be $1,105, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. Manufacturer warranty remedies may be available for labor costs associated with this AD. As a result, the costs attributable to the AD may be less than stated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-12-15 Boeing: Amendment 39-13675. Docket 2003-NM-50-AD.

Applicability: Model 777-200 series airplanes, as listed in Boeing Service Bulletin 777-27-0057, dated August 22, 2002; certificated in any category.

Compliance: Required as indicated, unless accomplished previously.

To prevent damage to the stabilizer cutout circuit wires in the bundles due to contact between the bundles and the adjacent galley water drain tube and hydraulic tubes, which, if followed by an active fault in the stabilizer command circuit, could result in undesired stabilizer motion that cannot be stopped, and could lead to loss of pitch control and loss of control of the airplane; accomplish the following:

Service Bulletin References

(a) The term “service bulletin,” as used in this AD, means the Accomplishment Instructions of Boeing Service Bulletin 777-27-0057, dated August 22, 2002.

Inspection

(b) Within 18 months of the effective date of this AD, perform a one-time general visual inspection of the wire bundles that route aft of electrical disconnect panel AC2162 to determine their installation and separation, in accordance with the service bulletin.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(c) If wire bundles are installed in accordance with the service bulletin, no further action is required by this AD.

Corrective Action

(d) If any wire bundle is not installed in accordance with the service bulletin: Before further flight, perform the actions specified in paragraphs (d)(1) and (d)(2) of this AD.

(1) Perform a detailed inspection of the wire bundle for damage, and repair all damage, in accordance with the service bulletin.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(2) Add clamps or tie strips to secure the wire bundles in accordance with the service bulletin.

Alternative Methods of Compliance

(e) In accordance with 14 CFR 39.19, the Manager, Seattle Aircraft Certification Office, FAA, is authorized to approve alternative methods of compliance for this AD.

Incorporation by Reference

(f) The actions shall be done in accordance with Boeing Service Bulletin 777-27-0057, dated August 22, 2002. This incorporation by reference was approved by the Director of the Federal Register in accordance with 5 U.S.C. 552(a) and 1 CFR part 51. Copies may be obtained from Boeing Commercial Airplanes, P.O. Box 3707, Seattle, Washington 98124-2207. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Effective Date

(g) This amendment becomes effective on July 22, 2004.

Issued in Renton, Washington, on June 7, 2004.
Kalene C. Yanamura,
Acting Manager, Transport Airplane Directorate, Aircraft Certification Service.

[FR Doc. 04-13497 Filed 6-16-04; 8:45 am]

BILLING CODE 4910-13-P